NATIONAL AERONAUTICS AND SPACE ADMINISTRATION

[Notice (03-056)]

Government-Owned Inventions, Available for Licensing

ACTION: Notice of availability of inventions for licensing.

SUMMARY: The inventions listed below are assigned to the National Aeronautics and Space Administration, have been filed in the United States Patent and Trademark Office, and are available for licensing.

DATES: June 3, 2003.

FOR FURTHER INFORMATION CONTACT: Linda Blackburn, Patent Counsel, NASA Langley Research Center, Mail Code 212, Hampton, VA 23681-2199; telephone (757) 864-9260, fax (757) 864-9190.

NASA Case No. LAR-16289-1: Electro-Active Transducer Using Radial Electric Field To Produce/Sense Out-of-Plane Transducer Motion;

NASA Case No. LAR-16363-1: Electro-Active Device Using Radial Electric Field Piezo-Diaphragm For Control Of Fluid Movement;

NASA Case No. LAR-16390-1-SB: Ruthenium Stabilization For Improved Oxidation/Reduction Catalyst Systems;

NASA Case No. LAR-16393-1: Electro-Active Device Using Radial Electric Field Piezo-Diaphragm For Sonic Applications.

Dated: May 28, 2003.
Robert M. Stephens,
Deputy General Counsel.

[FR Doc. 03-13907 Filed 6-2-03; 8:45 am]

BILLING CODE 7590-01-P